POSTAL REGULATORY COMMISSION

[Docket No. CP2011-63; Order No. 697]

Mail Classification Change for Priority Mail Flat Mail

AGENCY: Postal Regulatory Commission.

ACTION: Notice.

SUMMARY: The Commission is noticing a recently-filed Postal Service request to provide Forever postage on Priority Mail Flat Rate packaging . This notice addresses procedural steps associated with this filing.

DATES: Comments are due: March 23, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On March 15, 2011, the Postal Service filed notice with the Commission of changes in rates of general applicability and concomitant classification changes for a competitive product pursuant to 39 CFR 3015.2.¹ The proposed changes establish classification changes to enable Forever postage on Priority Mail Flat Rate packaging within the Priority Mail product. The change is scheduled to go into effect April 17, 2011.

¹ Notice of the United States Postal Service of Changes in Rates of General Applicability for a Competitive Product, Established in Governors' Decision No. 11-4, March 15, 2011 (Notice).

The Forever postage on Priority Mail Flat Rate packaging proposal will allow the Postal Service to offer bundles of Priority Mail packaging that have prepaid mailing labels affixed for the following types of packaging: (1) Priority Mail Flat Rate Envelopes—Regular, Legal, Padded, and (2) Priority Flat Rate Boxes—Small, Medium (2 styles), Large. The Forever Prepaid Flat Rate Packaging will be available for purchase in 3, 5, 10, and 25 count packs. There will be two components of this offering: The online model and the retail model. The online model will allow customers to purchase packs from a Web site. The retail model will eventually allow retailers to choose which packs they wish to sell and offer those packs in their stores directly to their customers.

The Postal Service includes five attachments with its Notice in support of Forever postage on Priority Mail Flat Rate packaging:

• Decision of the Governors of the United States Postal Service on Establishment of Rate and Class of General Applicability for Forever Prepaid Flat Rate Packaging for Priority Mail (Governors' Decision No. 11-4);

• Management Analysis of Forever Prepaid Flat Rate Packaging for Priority Mail;

• Certification of Governors' Vote in the Governors' Decision No. 11-4; and

• Proposed Mail Classification Schedule language.

The Commission establishes Docket No. CP2011-63 for consideration of matters related to the proposed classification changes to enable Forever postage on Priority Mail Flat Rate packaging as identified in the Postal Service's Notice.

Interested persons may submit comments on whether the Postal Service's Notice is consistent with the policies of 39 U.S.C. 3632, 3633 and 3642 as well as 39 CFR parts 3015 and 3020. Comments are due no later than March 23, 2011. The Postal Service's Notice can be accessed via the Commission's Web site (http://www.prc.gov).

The Commission appoints William C. Miller to serve as Public Representative in the captioned proceeding.

It is ordered:

1. The Commission establishes Docket No. CP2011-63 for consideration of matters raised by the Postal Service's Notice.

2. Comments by interested persons in this proceeding are due no later than March 23, 2011.

3. Pursuant to 39 U.S.C. 505, William C. Miller is appointed to serve as the officer of the Commission (Public Representative) to represent the interests of the general public in this proceeding.

4. The Secretary shall arrange for publication of this notice and order in the Federal Register.

By the Commission.
Shoshana M. Grove,
Secretary.

[FR Doc. 2011-6784 Filed 3-22-11; 8:45 am]

BILLING CODE 7710-FW-P